FEDERAL MARITIME COMMISSION

Notice of Agreement Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. A copy of the agreement is available through the Commission's website (www.fmc.gov) or by contacting the Office of Agreements at (202)-523-5793 or tradeanalysis@fmc.gov.

Agreement No.: 201264.

Agreement Name: Maersk/MSC Turkey Space Charter Agreement.

Parties: Maersk Line A/S and Mediterranean Shipping Company S.A.

Filing Party: Wayne Rohde, Cozen O'Connor.

Synopsis: The Agreement authorizes Maersk to charter space to MSC in the trade from Turkey to the U.S. East Coast.

Proposed Effective Date: 9/10/2018.

Location: https://www2.fmc.gov/FMC.Agreements.Web/Public/AgreementHistory/15239.

Dated: August 3, 2018.
Rachel Dickon,
Secretary.

[FR Doc. 2018-16981 Filed 8-7-18; 8:45 am]

BILLING CODE 6731-AA-P